ELECTION ASSISTANCE COMMISSION

Sunshine Act Meeting Notice

AGENCY: U.S. Election Assistance Commission.

ACTION: Notice of Public Meeting.

Date and Time: Wednesday, April 15, 2009:

2-4 p.m. Mountain Daylight Time (MDT),

[4-6 p.m. Eastern Daylight Time (EDT)].

Place: The Westin Tabor Center, 1672 Lawrence Street, Denver, Colorado 80202, (303) 572-9100.

Agenda: The Commission will hold a public meeting and a workshop to receive presentations on the following topic: Cost-Saving Practices for Election Management. The Commission will consider other administrative matters. Members of the public may observe but not participate in EAC meetings unless this notice provides otherwise. Members of the public may use small electronic audio recording devices to record the proceedings. The use of other recording equipment and cameras requires advance notice to and coordination with the Commission's Communications Office.*

* View EAC Regulations Implementing Government in the Sunshine Act.

This meeting will be open to the public.

Person To Contact For Information: Bryan Whitener; Telephone: (202) 566-3100.

Thomas R. Wilkey,
Executive Director, U.S. Election Assistance Commission.

[FR Doc. E9-7846 Filed 4-2-09; 4:15 pm]

BILLING CODE 6820-KF-P